FEDERAL MEDIATION AND CONCILIATION SERVICE

Intent To Request Revision From OMB of One Current Public Collection of Information: FMCS F-7 Notice

AGENCY: Federal Mediation and Conciliation Service (FMCS).

ACTION: 60-Day notice and request for comments.

SUMMARY: The Federal Mediation and Conciliation Service (FMCS) invites public comment on one current Information Collection Request (ICR), abstracted below, that we will submit to the Office of Management and Budget (OMB) for approval in compliance with the Paperwork Reduction Act (PRA). The ICR describes the nature of the information collection and its expected burden. The purpose of the collection is to facilitate a reporting requirement to FMCS by labor or management practitioners under the National Labor Relations Act (NLRA) in an effort to utilize federal mediation to prevent or minimize disruption to the community that could arise from a labor/management dispute.

DATES: Comments must be submitted on or before November 5, 2024.

ADDRESSES: You may submit comments, identified by the FMCS F-7 Notice, through one of the following methods:

• Email: register@fmcs.gov;

• Mail: Office of the General Counsel, One Independence Square, 250 E. St. SW, Washington, DC, 20427. Please note that at this time, mail is sometimes delayed. Therefore, we encourage emailed comments.

FOR FURTHER INFORMATION CONTACT: Karen Pierce, kpierce@fmcs.gov, (202) 302-6499.

SUPPLEMENTARY INFORMATION: A copy of the Agency's form, FMCS F-7 Notice, is available here.

I. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

II. Information Collection Request

Agency: Federal Mediation and Conciliation Service.

Title: FMCS F-7 Notice.

OMB Number: 3076-0004.

Type of Request: Revision of a currently approved collection.

Affected Public: Private Sector to include farms and not-for-profit institutions.

Frequency: On occasion.

Burden: The total annual burden estimate is that FMCS will receive requests from approximately 25,000 respondents per year, one response per event. The form takes about 10 minutes to complete.

Information Collection Requirement:

Purpose and Description of Data Collection

To facilitate a reporting requirement to FMCS by labor or management practitioners under the National Labor Relations Act (NLRA), 29 U.S.C. 158(d)(3), in an effort to utilize federal mediation to prevent or minimize disruption to the community that could arise from a labor/management dispute.

Use of Results

The Agency uses the collected information to contact the chief negotiators in the dispute to evaluate the progress of the negotiations and determine if mediation would be beneficial and monitor or become involved in the negotiations to possibly avoid or minimize disruption to the community. FMCS receive notices electronically through its public website.

III. The Official Record

The official records are electronic records.

Dated: August 23, 2024.
Alisa Zimmerman,
Deputy General Counsel.

[FR Doc. 2024-19368 Filed 9-3-24; 11:15 am]

BILLING CODE 6732-01-P